DEPARTMENT OF COMMERCE

National Oceanic and Atmospheric Administration

[RTID 0648-XA872]

Endangered and Threatened Species; Take of Abalone

AGENCY: National Marine Fisheries Service (NMFS), National Oceanic and Atmospheric Administration (NOAA), Commerce.

ACTION: Notice; receipt of application to renew one scientific research permit.

SUMMARY: Notice is hereby given that NMFS has received a request to renew an existing scientific research permit relating to black abalone. The proposed work is intended to increase knowledge of species listed under the Endangered Species Act (ESA) and to help guide management, conservation, and recovery efforts. The application may be viewed online at: https://apps.nmfs.noaa.gov/preview/preview_open_for_comment.cfm.

DATES: Comments or requests for a public hearing on the application must be received at the provided email address (see ADDRESSES) no later than 5 p.m. Pacific standard time on March 18, 2021.

ADDRESSES: Because all West Coast NMFS offices are currently closed, all written comments on the application should be submitted by email to nmfs.wcr-apps@noaa.gov. Please include the permit number (19571-2R) in the subject line of the email.

FOR FURTHER INFORMATION CONTACT: Susan Wang, Long Beach, CA (email: Susan.Wang@noaa.gov). Permit application instructions are available from the address above, or online at https://apps.nmfs.noaa.gov.

SUPPLEMENTARY INFORMATION:

Species Covered in This Notice

The following listed species are covered in this notice:

Endangered black abalone (Haliotis cracherodii).

Background

Permit 19571-2R

The NMFS Southwest Fisheries Science Center in La Jolla, California, has requested to renew for five years a research permit that currently allows them to hold, breed, and conduct lab studies on captive black abalone. Under the permit, researchers would continue to maintain healthy populations of black abalone in captive facilities throughout California and test broodstock conditioning and spawning methods at the NMFS Southwest Fisheries Science Center.

The main purpose of the proposed research is to support recovery efforts by developing reliable spawning techniques to consistently produce high quality juvenile black abalone. The proposed research would examine:

(1) Broodstock conditioning under different temperatures, diets, and photoperiod regimes;

(2) Broodstock conditioning using hormones and simulated seasonal tidal cycles;

(3) Spawning induction using dessication, thermal shock, hydrogen peroxide treatments, hormones, and seasonal tidal cycles; and

(4) Growth and survival of captively-produced juveniles under different temperatures and diets.

Activities would include captive holding, breeding, rearing, grow-out, lab experiments, epipodial tissue sampling, observation, and transport of black abalone. Black abalone are currently held at the Southwest Fisheries Science Center (SWFSC), the California Department of Fish and Wildlife Shellfish Health Laboratory, and the Monterey Bay Aquarium. The captive animals include pre-listed abalone that have been in captivity since before black abalone were listed as endangered under the ESA. Some of these were confiscated in law enforcement cases and some were collected as part of emergency response activities. Additional wild origin black abalone may be obtained through future confiscations and emergency response activities that involve live black abalone.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Authority

Scientific research permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Dated: February 9, 2021.
Angela Somma,
Chief, Endangered Species Division, Office of Protected Resources, National Marine Fisheries Service.

[FR Doc. 2021-02987 Filed 2-12-21; 8:45 am]

BILLING CODE 3510-22-P